DEPARTMENT OF THE INTERIOR

Fish and Wildlife Service

Notice To Extend the Public Comment Period for the Draft Recovery Plan for the California Red-legged Frog (Rana aurora draytonii)

AGENCY: Fish and Wildlife Service, Interior.

ACTION: Notice of extension of public comment period.

SUMMARY: The U.S. Fish and Wildlife Service gives notice that the comment period announced in the May 12, 2000, notice of availability of the Draft Recovery Plan for the California red-legged frog (Rana aurora draytonii) will be extended an additional 90 days until November 8, 2000. This recovery plan includes the threatened California red-legged frog (Rana aurora draytonii). The draft plan contains recovery criteria and actions for the California red-legged frog. Additional species of concern that will benefit from recovery actions taken for the California red-legged frog are also discussed in the draft plan. The Service extends the current 90 day comment period and solicits review and comment from the public on this draft plan.

DATE: Comments on the draft recovery plan received by November 8, 2000, will be considered by the Service.

ADDRESSES: Copies of the draft recovery plan are available for inspection, by appointment, during normal business hours at the following location: U.S. Fish and Wildlife Service, Sacramento Fish and Wildlife Office, 2800 Cottage Way, W-2605, Sacramento, California (telephone (916) 414-6600). Requests for copies of the draft recovery plan and written comments and materials regarding this plan should be addressed to Wayne S. White, Field Supervisor, Ecological Services, at the above address.

FOR FURTHER INFORMATION CONTACT: Diane Elam, Fish and Wildlife Biologist, at the above address.

SUPPLEMENTARY INFORMATION:

Background

Restoring endangered or threatened animals and plants to the point where they are again secure, self-sustaining members of their ecosystems is a primary goal of the Service's endangered species program. To help guide recovery efforts, the Service is working to prepare recovery plans for most of the listed species native to the United States. Recovery plans describe actions considered necessary for the conservation of the species, establish criteria for downlisting or delisting listed species, and estimate time and cost for implementing the recovery measures needed.

The Endangered Species Act of 1973, as amended (16 U.S.C. 1531 et seq.) (Act), requires the development of recovery plans for listed species unless such a plan would not promote the conservation of a particular species. Section 4(f) of the Act requires that public notice and an opportunity for public review and comment be provided during recovery plan development. The Service will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individualized responses to comments will not be provided.

The California red-legged frog (Rana aurora draytonii) occurs from sea level to elevations of about 1,500 meters (5,000 feet). It has been extirpated from 70 percent of its former range and now is found in coastal drainages of central California, from Marin County, California, south to northern Baja California, Mexico. The California red-legged frog requires a variety of habitat elements with aquatic breeding areas embedded within a matrix of riparian and upland dispersal habitats. Breeding sites of the California red-legged frog are in aquatic habitats including pools and backwaters within streams and creeks, ponds, marshes, sag ponds, dune ponds and lagoons. California red-legged frogs frequently breed in artificial impoundments such as stock ponds. Potential threats to the species include elimination or degradation of habitat from land development and land use activities and habitat invasions by non-native aquatic species.

The objective of this draft recovery plan is to delist the California red-legged frog through implementation of a variety of recovery measures including (1) protection of known populations and reestablishment of populations; (2) protection of suitable habitat, corridors, and core areas ; (3) habitat management; (4) development of land use guidelines; (5) research; (6) surveying and monitoring; and (7) public participation, outreach, and education.

Public Comments Solicited

The Service solicits written comments on the draft recovery plan described. All comments received by the date specified above will be considered prior to approval of this plan.

Authority: The authority for this action is section 4(f) of the Endangered Species Act, 16 U.S.C. 1533(f).

Dated: August 4, 2000.
Elizabeth H. Stevens,
Acting Manager, California/Nevada Operations Office, Region 1, U.S. Fish and Wildlife Service.

[FR Doc. 00-20228 Filed 8-9-00; 8:45 am]

BILLING CODE 4310-55-P